FEDERAL MARITIME COMMISSION

Ocean Transportation Intermediary License Applicants

Notice is hereby given that the following applicants have filed with the Federal Maritime Commission an application for licenses as Non-Vessel Operating Common Carrier and Ocean Freight Forwarder-Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

PDS Express Inc., 473 Broadway, Suite 215, Bayonne, NJ 07002. Officers:Henry Gomez, Managing Director (Qualifying Individual), Niraj P. Patel, Partner

ShipChem, Inc. dba ShipChem, Six Concourse Parkway, Suite 2800, Atlanta, GA 30328. Officers: Beat Schweizer, V.P., Operations (Qualifying Individual), Barry Dale, President/Director

Dated: October 5, 2001.
Bryant L. VanBrakle,
Secretary.

[FR Doc. 01-25557 Filed 10-10-01; 8:45 am]

BILLING CODE 6730-01-P